DEPARTMENT OF HEALTH AND HUMAN SERVICES

Centers for Disease Control and Prevention

Fees for Cruise Ship Operational Sanitation, Construction, and Renovation Inspections

AGENCY: Centers for Disease Control and Prevention (CDC), Department of Health and Human Services (HHS).

ACTION: Notice.

SUMMARY: The Centers for Disease Control and Prevention (CDC), within the Department of Health and Human Services (HHS) announces fees for vessel sanitation inspections for fiscal year (FY) 2025. These inspections are conducted by HHS/CDC's Vessel Sanitation Program (VSP). VSP helps the cruise line industry fulfill its responsibility for developing and implementing comprehensive sanitation programs to minimize the risk for environmentally associated illnesses and hazards. Every vessel that has a foreign itinerary and carries 13 or more passengers is subject to twice-yearly unannounced operations inspections and, when necessary, reinspection.

DATES: These fees apply to inspections conducted from October 13, 2024, through September 30, 2025.

FOR FURTHER INFORMATION CONTACT: CAPT Luis Rodriguez, Chief, Vessel Sanitation Program, National Center for Environmental Health, Centers for Disease Control and Prevention, 4770 Buford Highway NE, MS 106-6, Atlanta, Georgia 30341-3717; phone: 800-323-2132; email: vsp@cdc.gov.

SUPPLEMENTARY INFORMATION:

Purpose and Background

HHS/CDC established the Vessel Sanitation Program (VSP) in the 1970s as a cooperative activity with the cruise ship industry. VSP helps the cruise ship industry prevent and control the introduction and spread of environmentally associated illnesses and hazards on cruise ships. VSP operates under the authority of the Public Health Service Act (Section 361 of the Public Health Service Act; 42 U.S.C. 264, “Control of Communicable Diseases”). Regulations found at 42 CFR 71.41 (Foreign Quarantine—Requirements Upon Arrival at U.S. Ports: Sanitary Inspection; General Provisions) state that carriers arriving at U.S. ports from foreign areas are subject to sanitary inspections to determine potential rodent, insect, or other vermin infestations; contaminated food or water; or other sanitary conditions requiring measures to prevent introduction or spread of communicable diseases.

The FY 2025 fee schedule reflects increases to cover costs to operate and improve the program. Travel expenses and other costs have increased, and larger ships and more complex features mean more inspectors are needed for each inspection. Fees charged for inspections also support many additional VSP services beyond inspections (plan reviews, equipment reviews, technical assistance, epidemiological investigations, and outbreak response activities). VSP will continue to enhance customer service to cruise lines and shipyards as well as public health efforts onboard by offering additional value-added services requested by industry partners such as modernization of VSP's data systems to increase functionality and efficiency and updates to VSP training platforms.

Additionally, the fee schedule will be restructured from seven categories to four categories. This new structure addresses comments from industry in July 2019 and more accurately reflects the number of inspectors and inspector-hours needed to perform an inspection.

The fee schedule for sanitation inspections of passenger cruise ships by VSP was first published in the Federal Register on November 24, 1987 (52 FR 45019). HHS/CDC began collecting fees on March 1, 1988. The fee schedule was most recently published in the Federal Register on August 14, 2023 (88 FR 55048). This notice announces fees for inspections conducted during FY 2025 (beginning on October 13, 2024, through September 30, 2025). The fee schedule for FY 2025 is presented in Appendix A.

The following formula will be used to determine the fees:

Total cost of VSP = Total cost of operating the program, such as administration, travel, staffing, sanitation inspections, and outbreak response.

Weighted number of annual inspections = Total number of ships and inspections per year accounting for vessel size, number of inspectors needed for vessel size, travel logistics to conduct inspections, and vessel location and arrivals in U.S. jurisdiction per year.

Fee

The fee schedule (Appendix A) applies to inspections conducted from October 13, 2024, through September 30, 2025.

Applicability

The fees will apply to all passenger cruise vessels for which inspections are conducted as part of HHS/CDC's VSP.

Noah Aleshire,
Chief Regulatory Officer, Centers for Disease Control and Prevention.

Appendix A

Fee Schedule for Each Vessel Size
Vessel size (GT ¹) | Operational inspection ² fee (US$) | Construction and renovation inspection ³ fee (US$)
Tier 1 (<30,000 GT) | 8,073 | 16,146
Tier 2 (30,001-110,000 GT) | 16,146 | 32,292
Tier 3 (110,001-180,000 GT) | 32,292 | 64,584
Tier 4 (>180,001 GT) | 64,584 | 129,168
¹ Gross tonnage in cubic feet, as shown in Lloyd's Register of Shipping (https://www.lr.org/en/).
² Operations inspections and re-inspections involve the same procedures and require the same amount of time, so they are charged at the same rates.
³ Construction and renovation inspections require at least twice the amount of time as operations inspections, so they are charged double the rates.

[FR Doc. 2024-21786 Filed 9-20-24; 8:45 am]

BILLING CODE 4163-18-P